DEPARTMENT OF COMMERCE

National Oceanic and Atmospheric Administration

RIN 0648-XC58

Marine Mammals; File No. 1039-1916

AGENCY: National Marine Fisheries Service (NMFS), National Oceanic and Atmospheric Administration (NOAA), Commerce.

ACTION: Notice; denial of permit.

SUMMARY: Notice is hereby given that a request for a scientific research permit [File No. 1039-1916] submitted by Ann Zoidis, Cetos Research Organization, 11 Des Isle Avenue, Bar Harbor, Maine has been denied.

ADDRESSES: The application and related documents are available for review upon written request or by appointment in the following office(s):

Permits, Conservation and Education Division, Office of Protected Resources, NMFS, 1315 East-West Highway, Room 13705, Silver Spring, MD 20910; phone (301)713-2289; fax (301)427-2521;

Pacific Islands Region, NMFS, 1601 Kapiolani Blvd., Rm 1110, Honolulu, HI 96814-4700; phone (808)973-2935; fax (808)973-2941; and

Northeast Region, NMFS, One Blackburn Drive, Gloucester, MA 01930-2298; phone (978)281-9300; fax (978)281-9394.

FOR FURTHER INFORMATION CONTACT: Jaclyn Daly or Carrie Hubard, (301)713-2289.

SUPPLEMENTARY INFORMATION: On September 17, 2007, a notice was published in the Federal Register (72 FR 52862) that an application had been filed by the above named individual. The requested permit has been denied subject to the provisions of the Marine Mammal Protection Act of 1972 (16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requested authorization to conduct multiple activities, including suction-cup tagging, on cetaceans in Hawaiian waters and the Gulf of Maine. The purpose of the research would have been to determine abundance, distribution, habitat use, and foraging and social behavior of ESA and non-ESA listed species. Overall, the scope of the proposed research was too broad to determine if the objectives could be met by the applicant and if the manner in which the research would be conducted was consistent with the MMPA and ESA.

Dated: December 4, 2007.
P. Michael Payne,
Chief, Permits, Conservation and Education Division, Office of Protected Resources, National Marine Fisheries Service.

[FR Doc. E7-23956 Filed 12-10-07; 8:45 am]

BILLING CODE 3510-22-S